DEPARTMENT OF TRANSPORTATION

Surface Transportation Board

[STB Finance Docket No. 33833]

The Burlington Northern and Santa Fe Railway Company—Trackage Rights Exemption—Union Pacific Railroad Company

Union Pacific Railroad Company (UP) has agreed to grant overhead trackage rights to The Burlington Northern and Santa Fe Railway Company (BNSF) over UP's rail line between Stockton, CA, in the vicinity of UP's milepost 82.3 (Fresno Subdivision), and Fresno, CA, in the vicinity of UP's milepost 207.0 (Fresno Subdivision). BNSF will operate its own trains with its own crews over UP's line under the trackage rights agreement.¹

¹ On December 29, 1999, BNSF and UP filed a petition for exemption in STB Finance Docket No. 33833 (Sub-No. 1), The Burlington Northern and Santa Fe Railway Company—Trackage Rights Exemption—Union Pacific Railroad Company, wherein BNSF and UP request that the Board permit the proposed overhead trackage rights arrangement described in the present proceeding to expire on February 7, 2000. That petition will be addressed by the Board in a separate decision.

The transaction is scheduled to be consummated on or shortly after January 15, 2000.

The purpose of the trackage rights is to allow BNSF to operate over an alternate line while BNSF's lines are undergoing maintenance and repair.

As a condition to this exemption, any employees affected by the trackage rights will be protected by the conditions imposed in Norfolk and Western Ry. Co.—Trackage Rights—BN, 354 I.C.C. 605 (1978), as modified in Mendocino Coast Ry., Inc.-Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 33833, must be filed with the Surface Transportation Board, Office of the Secretary, Case Control Unit, 1925 K Street, N.W., Washington, DC 20423-0001. In addition, one copy of each pleading must be served on Yolanda Grimes Brown, Esq., The Burlington Northern and Santa Fe Railway Company, P.O. Box 961039, Fort Worth, TX 76161-0039.

Board decisions and notices are available on our website at “WWW.STB.DOT.GOV.”

Decided: January 11, 2000.
By the Board, David M. Konschnik, Director, Office of Proceedings.
Vernon A. Williams,
Secretary.

[FR Doc. 00-1079 Filed 1-14-00; 8:45 am]

BILLING CODE 4915-00-P